DEPARTMENT OF COMMERCE

International Trade Administration

[A-580-868]

Large Residential Washers From the Republic of Korea: Partial Rescission of Antidumping Duty Administrative Review; 2014-2015

AGENCY: Enforcement and Compliance, International Trade Administration, Department of Commerce.

SUMMARY: The Department of Commerce (the Department) is partially rescinding its administrative review of the antidumping duty order on large residential washers (LRW) from the Republic of Korea (Korea) for the period of review February 1, 2014, through January 31, 2015 (POR).

DATES: Effective Date: September 14, 2015.

FOR FURTHER INFORMATION CONTACT: David Goldberger or Reza Karamloo, Enforcement and Compliance, International Trade Administration, U.S. Department of Commerce, 14th Street and Constitution Avenue NW., Washington, DC 20230; telephone: (202) 482-4136 or (202) 482-4470, respectively.

SUPPLEMENTARY INFORMATION:

Background

On February 2, 2015, the Department published in the Federal Register a notice of “Opportunity to Request Administrative Review” of the antidumping duty order on LRW from Korea for the POR.¹

¹ See Antidumping or Countervailing Duty Order, Finding, or Suspended Investigation; Opportunity to Request Administrative Review, 80 FR 5509 (February 2, 2015).

On February 11, 2015, in accordance with section 751(a) of the Tariff Act of 1930, as amended (the Act), and 19 CFR 351.213(b), the Department received a timely request from LG Electronics, Inc. and its affiliate LG Electronics USA, Inc. (collectively, LG) to conduct a review of LG's sales and shipments to the United States during the POR. On February 26, 2015, Whirlpool Corporation, the petitioner, requested that the Department conduct an administrative review of the sales of LG, Samsung Electronics Co., Ltd. (Samsung), and Daewoo Electronics Corporation (Daewoo).²

² See February 11 and 26, 2015, letters from LG and the petitioner, respectively, regarding request for administrative review.

On April 3, 2015, the Department published in the Federal Register a notice of initiation of an administrative review of the antidumping duty order on LRW from Korea with respect to the above-named companies.³

³ See Initiation of Antidumping and Countervailing Duty Administrative Reviews, 80 FR 18202 (April 3, 2015).

On May 29, 2015, the petitioner timely withdrew its request for a review of Samsung and Daewoo.⁴

⁴ See May 29, 2015, letter from the petitioner regarding withdrawal of request for review.

Partial Rescission of Review

Pursuant to 19 CFR 351.213(d)(1), the Department will rescind an administrative review, in whole or in part, if the parties that requested a review withdraw the request within 90 days of the date of publication of notice of initiation of the requested review. The petitioner's withdrawal request was filed before the 90-day deadline. Therefore, in response to the withdrawal of request for review of Samsung and Daewoo, and pursuant to 19 CFR 351.213(d)(1), we are rescinding this review with regard to these companies. The instant review will continue with respect to LG.

Assessment

The Department will instruct U.S. Customs and Border Protection (CBP) to assess antidumping duties on all appropriate entries. For the companies for which this review is rescinded, antidumping duties shall be assessed at rates equal to the cash deposit of estimated antidumping duties required at the time of entry, or withdrawal from warehouse, for consumption, in accordance with 19 CFR 351.212(c)(1)(i). The Department intends to issue appropriate assessment instructions directly to CBP 15 days after the date of publication of this notice in the Federal Register.

Notification to Importers

This notice serves as the only reminder to importers of their responsibility, under 19 CFR 351.402(f)(2), to file a certificate regarding the reimbursement of antidumping and/or countervailing duties prior to liquidation of the relevant entries during this review period. Failure to comply with this requirement may result in the presumption that reimbursement of antidumping and/or countervailing duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This notice is published in accordance with section 751 of the Act and 19 CFR 351.213(d)(4).

Dated: September 8, 2015.
Christian Marsh,
Deputy Assistant Secretary for Antidumping and Countervailing Duty Operations.

[FR Doc. 2015-23051 Filed 9-11-15; 8:45 am]

BILLING CODE 3510-DS-P